DEPARTMENT OF COMMERCE

International Trade Administration

[A-351-825; A-351-847]

Stainless Steel Bar From Brazil; and Certain Carbon and Alloy Steel Cut-to-Length Plate From Brazil: Correction to the Opportunity To Request Administrative Review Notice

AGENCY: Enforcement and Compliance, International Trade Administration, Department of Commerce.

FOR FURTHER INFORMATION CONTACT: Brenda E. Waters, AD/CVD Operations, Customs Liaison Unit, Enforcement and Compliance, International Trade Administration, U.S. Department of Commerce, 1401 Constitution Avenue NW, Washington, DC 20230; telephone: (202) 482-4735.

SUPPLEMENTARY INFORMATION:

Background

On February 1, 2018, the Department published its opportunity to request administrative review of the antidumping duty orders and incorrectly listed the case number for stainless steel bar from Brazil and inadvertently listed the wrong period of review (POR) for certain carbon and alloy steel cut-to-length plate from Brazil. The correct case number for stainless steel bar from Brazil is A-351-825; and the correct POR for certain carbon and alloy steel cut-to-length plate from Brazil is September 22, 2016, through January 31, 2018.¹

¹ See Antidumping or Countervailing Duty Order, Finding, or Suspended Investigation; Opportunity To Request Administrative Review, 83 FR 4639 (February 1, 2018).

This notice serves as a correction notice.

Dated: January 21, 2018.
James Maeder,
Associate Deputy Assistant Secretary for Antidumping and Countervailing Duty Operations performing the duties of Deputy Assistant Secretary for Antidumping and Countervailing Duty Operations.

[FR Doc. 2018-03920 Filed 2-26-18; 8:45 am]

BILLING CODE 3510-DS-P